DEPARTMENT OF COMMERCE 3510-DS-P

Foreign-Trade Zones Board

[Order No. 1738]

Reorganization of Foreign-Trade Zone 22 Under Alternative Site Framework; Chicago, IL

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09; 75 FR 71069-71070, 11/22/10) as an option for the establishment or reorganization of general-purpose zones;

Whereas, the Illinois International Port District, grantee of Foreign-Trade Zone 22, submitted an application to the Board (FTZ Docket 33-2010, filed 5/7/2010) for authority to reorganize under the ASF with a service area of Cook, Du Page, Grundy, Kankakee, Kendall, Lake and Will Counties and portions of McHenry and Kane Counties, Illinois, in and adjacent to the Chicago Customs and Border Protection port of entry, FTZ 22's existing Sites 1, 2, 5, 6, 7, 8, 10, 11, 13 and 15 would be categorized as magnet sites, existing Sites 3, 4, 9, 12, 14, 16, 17 and 18 as usage-driven sites, and the grantee proposes one initial usage-driven site (Site 19);

Whereas, notice inviting public comment was given in the Federal Register (75 FR 27983-27984, 5/19/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 22 under the alternative site framework is approved, subject to the FTZ Act and the Board's regulations, including Section 400.28, to the Board's standard 2,000-acre activation limit for the overall general-purpose zone project, to a five-year ASF sunset provision for magnet sites that would terminate authority for Sites 2, 5, 6, 7, 8, 10, 11, 13 and 15 if not activated by January 31, 2016, and to a three-year ASF sunset provision for usage-driven sites that would terminate authority for Sites 3, 4, 9, 12, 14, 16, 17, 18 and 19 if no foreign-status merchandise is admitted for a bona fide customs purpose by January 31, 2014.

Signed at Washington, DC, this 12 day of January 2011.
Ronald K. Lorentzen,
Deputy Assistant Secretary for Import Administration, Alternate Chairman, Foreign-Trade Zones Board.
Andrew McGilvray,
Executive Secretary.

[FR Doc. 2011-1389 Filed 1-24-11; 8:45 am]

BILLING CODE 3510-DS-P